DEPARTMENT OF VETERANS AFFAIRS

Veterans' Advisory Committee on Rehabilitation, Amended Notice of Meeting

The Department of Veterans Affairs (VA) gives notice under the Federal Advisory Committee Act that the Veterans' Advisory Committee on Rehabilitation (VACOR) will meet virtually on Wednesday, August 19 and Thursday, August 20, 2020 from 10:00 a.m. to 3:00 p.m. EST both days. The virtual meeting sessions is open to the public.

The purpose of the Committee is to advise the Secretary of VA on the rehabilitation needs of Veterans with disabilities and on the administration of VA's rehabilitation programs.

On August 19, 2020, Committee members will welcome members and provide briefings from the Central Texas Veterans Health Care System on various tele-health services designed to enhance the rehabilitation potential of Veterans, particularly Veterans in rural areas.

On August 20, 2020, Committee members will receive briefings from the Waco Regional Office on various virtual services designed to enhance the rehabilitation potential of Veterans. Committee members will discuss recommendations to be included in the Committee's next annual comprehensive report.

Time will be allocated for receiving oral comments from the public. Members of the public may submit written comments for review by the Committee to Latrese Arnold, Designated Federal Officer, Veterans Benefits Administration (28), 810 Vermont Avenue NW, Washington, DC 20420, or at Latrese.Arnold@va.gov. In the communication, writers must identify themselves and state the organization, association or person(s) they represent. For any members of the public that wish to attend virtually, they may use the WebEx link: https://veteransaffairs.webex.com/veteransaffairs/e.php?MTID=m32739e83c249b52c53f3b7036a1ad0a0, password: VACOR*Aug20, or join by phone at 1-404-397-1596,1997448005#.

Dated: July 24, 2020.
LaTonya L. Small,
Federal Advisory Committee Management Officer.

[FR Doc. 2020-16386 Filed 7-28-20; 8:45 am]

BILLING CODE 8320-01-P